TENNESSEE VALLEY AUTHORITY

18 CFR Part 1305

Land Between The Lakes—Removal of Regulations on Motorized Vehicles

AGENCY: Tennessee Valley Authority.

ACTION: Final rule; removal.

SUMMARY: The Tennessee Valley Authority (TVA) hereby removes obsolete rules regulating the use of motorized vehicles over the Land Between The Lakes. Under the Land Between The Lakes Protection Act of 1998, administrative jurisdiction transferred from TVA to the United States Department of Agriculture—Forest Service (USDA-FS) on October 1, 1999. The USDA-FS currently is in charge of operation, maintenance, and development of this area. Accordingly, this rule would rescind the regulations effective upon publication in the Federal Register.

EFFECTIVE DATE: April 10, 2003.

FOR FURTHER INFORMATION CONTACT: Rebecca Chunn Tolene, Office of the General Counsel, Tennessee Valley Authority, 865-632-3045.

SUPPLEMENTARY INFORMATION: Land Between The Lakes (“LBL”) is a national recreation area located in western Kentucky and Tennessee established by the Tennessee Valley Authority (TVA) in 1964 and maintained by TVA until 1999. 18 CFR part 1305 contains rules regulating the use of motorized vehicles over LBL including designating the Turkey Bay Off-Road Vehicle Area as the only area to be authorized for use of off-road vehicles. Under the Land Between The Lakes Protection Act of 1998 (16 U.S.C. 460111-61), administrative jurisdiction transferred on October 1, 1999, from TVA to the USDA-FS. Accordingly, this rule rescinds 18 CFR part 1305 effective upon publication in the Federal Register.

List of Subjects in 18 CFR Part 1305

Traffic regulations.

For reasons set out in the preamble, under the authority of 16 U.S.C. 831-831ee, Chapter XIII of Title 18 of the Code of Federal Regulations is amended as follows:

PART 1305—[REMOVED AND RESERVED]

Part 1305 is removed and reserved.

Dated: March 28, 2003.
Kathryn J. Jackson,
Executive Vice President, River System Operations & Environment, Tennessee Valley Authority.

[FR Doc. 03-8801 Filed 4-9-03; 8:45 am]

BILLING CODE 8120-08-M